NATIONAL AERONAUTICS AND SPACE ADMINISTRATION

[Notice: (20-044)]

NASA Advisory Council; Human Explorations and Operations Committee; Meeting

AGENCY: National Aeronautics and Space Administration.

ACTION: Notice of meeting.

SUMMARY: In accordance with the Federal Advisory Committee Act, as amended, the National Aeronautics and Space Administration (NASA) announces a meeting of the Human Explorations and Operations Committee of the NASA Advisory Council (NAC). This Committee reports to the NAC.

DATES: Wednesday, May 13, 2020, 10:00 a.m. to 3:00 p.m.; and Thursday, May 14, 2020, 10:00 a.m. to 3:30 p.m., Eastern Time.

ADDRESSES: Virtual meeting by dial-in teleconference and WebEx only.

FOR FURTHER INFORMATION CONTACT: Dr. Bette Siegel, Designated Federal Officer, Human Exploration and Operations Mission Directorate, NASA Headquarters, Washington, DC 20546, via email at bette.siegel@nasa.gov or 202-358-2245.

SUPPLEMENTARY INFORMATION: This meeting will be available telephonically and by WebEx only. You must use a touch-tone phone to participate in this meeting. Any interested person may dial the toll-free access number 1-800-593-9971 or toll access number 1-517-308-9316, and then the numeric participant passcode: 4648477 to participate in the meeting for both days. Note: If dialing in, please “mute” your telephone. The WebEx link is https://nasaenterprise.webex.com; the meeting number is 907 086 072 and the password is Exploration@2020 (case sensitive) for both days.

The agenda for the meeting includes the following topics:

—Human Exploration and Operations Update

—Budget

—Advanced Exploration Systems

—Gateway

—Human Landing System

—Exploration Systems Development

—International Space Station

—Commercial Crew

—Commercialization of Low Earth Orbit

—NASA's Plan for Sustained Lunar Exploration and Development

It is imperative that this meeting be held on this day to accommodate the scheduling priorities of the key participants.

Patricia Rausch,
Advisory Committee Management Officer, National Aeronautics and Space Administration.

[FR Doc. 2020-08748 Filed 4-23-20; 8:45 am]

BILLING CODE 7510-13-P